DEPARTMENT OF COMMERCE

National Oceanic and Atmospheric Administration

[I.D. 012706B]

Endangered Species; File No. 1551

AGENCY: National Marine Fisheries Service (NMFS), National Oceanic and Atmospheric Administration (NOAA), Commerce.

ACTION: Notice; receipt of application.

SUMMARY: Notice is hereby given that NMFS, Southeast Fisheries Science Center (SEFSC), 75 Virginia Beach Drive, Miami, Florida 33149, has applied in due form for a permit to take green (Chelonia mydas), loggerhead (Caretta caretta), Kemp's ridley (Lepidochelys kempii), hawksbill (Eretmochelys imbricata), leatherback (Dermochelys coriacea), and olive ridley (Lepidochelys olivacea) for purposes of scientific research.

DATES: Written, telefaxed, or e-mail comments must be received on or before March 9, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1551.

FOR FURTHER INFORMATION CONTACT: Patrick Opay or Carrie Hubard, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to conduct scientific research that would study the survival, recruitment, age and growth, population dynamics, movements and migrations, habitat utilization, and distribution of sea turtles. The research would contribute information towards a better understanding of fishery interaction issues relating to these species. The information would be used to improve stock assessments, assess anthropogenic activities, and inform sea turtle conservation efforts. Up to 455 loggerhead, 336 green sea turtles, 230 Kemp's ridley sea turtles, 92 hawksbill sea turtles, 20 olive ridley sea turtles, 61 leatherback sea turtles, and 25 hardshell sea turtles species that would not be identifiable at the time of capture would be taken by pound net, entanglement net, hoop/dip net, or hand capture annually. An additional 1,700 loggerhead, 550 green, 600 Kemp's ridley, 550 hawksbill, 50 olive ridley, 850 leatherback, and 1,000 unidentified hardshell species could be harassed by aerial surveys. Up to 1,105 loggerhead, 536 green, 330 Kemp's ridley, 97 hawksbill, 22 olive ridley, 66 leatherback, and 30 unidentified hardshell species would be handled, measured, weighed, photographed, flipper tagged, passive integrated transponder (PIT) tagged, skin biopsied, and released annually. Researchers would take a variety of measurements, including the mouth, head, plastron, and tail length. Researchers would collect a blood sample, cloacal and lesion cultures, a epibiota sample, a keratin sample, and a fecal sample from a subset of these animals. Researchers would also gastric lavage, fat biopsy, tetracycline mark, laparoscopy, liver biopsy, take gonad, muscle and other colemic biopsies, attach electronic tags, attach a living tag, and conduct behavioral studies on a subset of these sea turtles. Up to 1 leatherback and 5 hardshell (total all species combined) mortalities could occur during the course of the research. The permit would be issued for 5 years. Research would take place in the Atlantic, Caribbean and Gulf of Mexico.

Dated: February 1, 2006.
Stephen L. Leathery,
Chief, Permits, Conservation and Education Division, Office of Protected Resources, National Marine Fisheries Service.

[FR Doc. E6-1636 Filed 2-6-06; 8:45 am]

BILLING CODE 3510-22-S